DEPARTMENT OF AGRICULTURE

Forest Service

Nevada City Range District, Tahoe National Forest, CA; Burlington Ridge Trails Project

AGENCY: Forest Service, USDA.

ACTION: Notice of intent to prepare an environmental impact statement.

SUMMARY: The Forest Service is proposing to modify the existing Burlington Ridge Trail system. These modifications include: Expanding some trails through new construction and joining up with user created trails; rerouting; realigning; and eliminating other trails in order to correct problems such as erosion, user conflicts, and potential natural and cultural resource degradation. This trail system currently includes approximately 18.5 miles of motorized and approximately 10.5 miles of non-motorized, single track, trails used by motorcyclists, hikers, equestrians and mountain bicyclists. This Burlington Ridge Trails project area includes National Forest System lands along State Highway 20 from approximately one-quarter mile east of White Cloud to approximately the Lowell Hill Road and south approximately four miles. Volunteers have constructed and maintained most of the existing trails. Trails date back to the 1960s when motorcyclists and equestrians connected logging roads, skid trails, abandoned railroad grades and ditches to form loop routes. More routes evolved in the 1970s and in 1982 construction of the Pioneer Trail began on National Forest System land by the Gold Country Trails Council, an equestrian group. At this time the Forest Service became actively involved in managing the area's trails. These trails have since become popular with local mountain bicyclists.

DATES: Comments concerning the scope of the analysis must be received by April 19, 2004. The draft environmental impact statement is expected July 1, 2004 and the final environmental impact statement is expected August 15, 2004.

ADDRESSES: Send written comments to Jean M. Masquelier, District Ranger, 631 Coyote St., Nevada City, CA 95959. For further information, mail correspondence to Mary Furney, Assistant District Recreation Officer, Nevada City Ranger District, Tahoe National Forest, 631 Coyote St., Nevada City, CA 95959 or by sending electronic mail (e-mail) to mfurney@fs.fed.us or by fax to 530-478-6109 attention Mary Furney.

FOR FURTHER INFORMATION CONTACT: see address above.

SUPPLEMENTARY INFORMATION:

Purpose and Need for Action

The Forest Service proposes to modify existing trails and construct new sections of trails to promote: More environmentally sound trails by reducing erosion; greater stream protection; enhanced archeological site protection and provide safer trail experiences as well as a greater diversity of trail opportunities in this area. It will also continue to promote the demonstrated spirit of successful cooperation among user groups and the Forest Service and help to meet the identified increasing demand for single track, off highway vehicle trails experience.

The Sierra Nevada Forest Plan Amendment (SNFPA) Final Supplemental Environmental Impact Statement (FSEIS) Record of Decision (ROD) January 2004 states: “This decision reaffirms that providing recreation opportunities is one of the Forest Service's major missions in California along with providing sustainable, healthy ecosystems.” It goes on to state, “Projected population growth in the United States and increasing tourism in this region, along with other factors, clearly contribute to increasing demand for recreation facilities and services throughout the Sierra Nevada national forests.”

Proposed Action

The proposed action includes:

1. Rerouting approximately one quarter mile of trail on the Towle Mill Loop Trail which is located T17N, R10E sections 25 and 36 to reduce erosion caused by the current steepness of the trail. The proposed trail will be generally less than 12 percent grade, utilizing climbing turns across the contour rather than the existing straight, 40 percent grade, down and up trail. Most of the current trail will be closed off except where the rerouted trail crosses the current trail. Also on the Towle Mill Loop Trail in section 25, approximately one third of a mile of trail is proposed to be rerouted onto an old railroad grade. Further east on that trail, in section 25, it is proposed that another one third of a mile of trail is constructed paralleling the present one in order to separate motorized and non-motorized activity reducing potential conflicts between motorcyclists and equestrians thus increasing user safety.

2. Constructing approximately three quarters of a mile of trail along a ditch, further north, mostly in section 25 with about 100 yards extending into section 19. This new construction would extend the non-motorized Hallelujah Trail to Skillman Campground paralleling the 20-12 Road also known as the Burlington Ridge Road. Currently motorcyclists, mountain bicyclists and equestrians utilize this portion of road to access single track trails. This new trail would serve to separate use and would be non-motorized. It will help to keep motorcyclists from inadvertently crossing onto the non-motorized Hallelujah Trail reducing conflicts and increasing trail user safety.

3. Closing approximately one quarter mile of the Omega Trail, in section 29. The Omega Trail has already been rerouted near the Forest Road 32 and Highway 20 intersection south of the 32 Road to the Burlington Off Highway Vehicle Staging Area. This will help to reduce user conflicts by directing motorcyclists away from the non-motorized Pioneer Trail.

4. Rerouting five minor sections and constructing a new trail that essentially connects user created trails. Beginning in the southeast corner of section 29, off of the 32-2 Road, there is a user created motorized trail that extends east and north into section 28 and is approximately one and one half miles long. There are five very minor reroutes, each less than 100 feet long, proposed along this section of trail. These reroutes would direct trail users away from archeological sites and wet areas, reducing impacts to these sensitive areas. It is proposed to extend this trail through the lower portion of section 28 and extending into section 27, then joinging up with another one half mile long user created trail that is just south of Highway 20 in sections 22 and 21. The entire length of the new construction joinging up the user-created trail portions is approximately five miles. The total trail length including the user created sections and the new construction is approximately seven miles. This new construction would replace an unauthorized trail that traverses from Forest Service land through private land that is currently used to make a loop route back on to Forest Service land.

Existing system trails are generally no more than two feet wide and natural features are generally left as they are with the trail winding around them. This adds to the unique experience of this area, enhances trail users's skills and helps to keep the speeds down of motorcyclists, mountain bicyclists, and equestrians. All of the proposed reroutes and new construction would be in keeping with the character of the existing trails.

Possible Alternatives

Alternatives being considered at this time include: (1) Proposed actions; (2) no action alternative; and (3) implement only the reroutes and closures, with no new construction.

Responsible Official

Jean M. Masquelier, District Ranger, 631 Coyote St., Nevada City, CA 95959.

Nature of Decision To Be Made

The decision to be made is whether to approve the Proposed Action, which would: Provide for trail construction, trail reconstruction, and trail closures; or provide for trail reconstruction and closure only; or do nothing to the current system.

Scoping Process

Public participation is viewed as an integral part of the environmental analysis. The Forest Service will be seeking points of dispute, debate, or disagreement from Federal, State, and local governmental agencies as well as from individuals or organizations that may be potentially interested or affected by the proposed action. A scoping letter will be mailed to persons who have expressed interest in the proposed action based on notification in the Tahoe National Forest Quarterly Schedule of Proposed Actions and by notification through a published legal notice in the Union newspaper, Grass Valley, CA and in the Journal newspaper, Auburn, CA.

This project was originally published in the Tahoe National Forest's quarterly Schedule of Proposed Actions (SOPA) in October of 2000. Scoping for trail projects have occurred in this general area since 1998 with Forest Service personnel attending meetings of constituent groups and otherwise meeting with group members.

Preliminary Issues

Noise and emissions from motorcycles and equipment used to construct new proposed trail segments may affect California Spotted Owl (CSO) since the project area includes protected activity centers (PACs), home range core areas (HRCAs), suitable CSO habitat and Old Forest Emphasis allocations. In addition other wildlife species may be affected as well. Are there significant impacts to wildlife and habitat caused by construction of trails and use by motorized and non-motorized trail users? Will trail construction and use increase erosion, pollution, and sedimentation of waterways? Should motorized trail activity be allowed to continue in Old Forest Emphasis allocations?

Comment Requested

This notice of intent initiates the scoping process which guides the development of the environmental impact statement. Comments submitted during the scoping process should be in writing or e-mail, and should be specific to the proposed action. The comments should describe as clearly and completely as possible any points of dispute, debate, or disagreement the commenter has with the proposal. Once scoping letters are received, the District shall identify all potential issues, eliminate non-significant issues or those covered by another environmental analysis, identify issues to analyze in depth, develop additional alternatives to address those significant issues, and identify potential environmental effects of the proposed action as well as all fully analyzed alternatives.

Early Notice of Importance of Public Participation in Subsequent Environmental Review: The draft EIS is expected to be filed with the Environmental Protection Agency (EPA) and available for public review in July 2004. EPA will publish a notice of availability of the draft EIS in the Federal Register at that time. The comment period on the draft EIS will extend for 45 days from the date the EPA notice appears in the Federal Register. At that time, copies of the draft EIS will be mailed to potentially interested and affected agencies, organizations, and individuals for their review and comment and to those who provided comment during the scoping period. It is very important that those interested in the Burlington Ridge Trails Project participate by providing comment at that time.

The final EIS would be completed in August 2004. In the final EIS, the Forest Service is required to respond to substantive comments received during the comment period that pertain to the environmental consequences discussed in the draft EIS, as well as applicable laws, regulations, and policies considered in making the decision regarding this proposal.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the two week comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: March 30, 2004.
Steven T. Eubanks,
Forest Supervisor, Tahoe National Forest.

[FR Doc. 04-7566 Filed 4-2-04; 8:45 am]

BILLING CODE 3410-11-M